DEPARTMENT OF JUSTICE

Notice of Lodging of Consent Decree Under Comprehensive Environmental Response, Compensation and Liability Act

In accordance with Departmental policy, 28 CFR 50.7, notice is hereby given that on August 26, 2003, a proposed Consent Decree in United States v. Nassau Metals Corporation (M.D.Pa.), C.A. No. 4:CV-03-1484, was lodged with the United States District Court for the Middle District of Pennsylvania.

In this action, the United States sought response costs incurred and to be incurred by the Environmental Protection Agency (“EPA”), pursuant to Section 107 of the Comprehensive Environmental Response, Compensation and Liability Act, as amended (“CERCLA”), 42 U.S.C. 9607, in connection with the clean-up of the Eastern Diversified Metals Site, located in Schuylkill County, Pennsylvania. Further, the United States sought an order, pursuant to Section 106 of CERCLA, requiring defendant Nassau Metals Corporation (“Nassau”) to complete the clean-up of the Site.

Under the Consent Decree, Nassau will implement the remedy selected in the November 21, 2001 Record of Decision for operable unit four. Implementation of this remedy will cost approximately $14 million and will complete the clean-up of the Site. In addition, Nassau will pay future costs incurred by EPA in connection with the Site.

The Department of Justice will receive, for a period of 30 days from the date of this publication, comments relating to the proposed Consent Decree. Comments should be addressed to the Assistant Attorney General for the Environment and Natural Resources Division, P.O. Box 7611, U.S. Department of Justice, Washington, DC 20044-7611, and should refer to United States v. Nassau Metals Corporation, DOJ Ref. No. 90-11-3-223/1.

The proposed Consent Decree may be examined at the Office of the United States Attorney, 228 Walnut Street, Federal Building, Room 220, Harrisburg, PA 17108; and U.S. EPA Region 3, 1650 Arch Street, Philadelphia, Pennsylvania 19103. During the public comment period, the proposed Consent Decree may also be examined on the following Department of Justice Web site, http://www.usdoj.gov/enrd/open.html. A copy of the proposed Consent Decree may be obtained by mail from the Consent Decree Library, P.O. Box 7611, U.S. Department of Justice, Washington, DC 20044-7611 or by faxing or e-mailing a request to Tonia Fleetwood (tonia.fleetwood@usdoj.gov), fax number (202) 514-0097, phone confirmation number (202) 514-1547. In requesting a copy the Consent Decree only from the Consent Decree Library, please enclose a check in the amount of $24.75, or enclose a check in the amount of $74.75 for the Consent Decree and the Exhibits thereto (.25 cents per page reproduction costs), payable to the U.S. Treasury.

Robert D. Brook,
Assistant Section Chief, Environmental Enforcement Section, Environment and Natural Resources Division.

[FR Doc. 03-23075 Filed 9-9-03; 8:45 am]

BILLING CODE 4410-15-M